DEPARTMENT OF ENERGY

Federal Energy Regulatory Commission

Combined Notice of Filings #1

Take notice that the Commission received the following electric rate filings:

Docket Numbers: ER12-1179-024.

Applicants: Southwest Power Pool, Inc.

Description: Compliance filing: Order No. 745 Compliance Filing Pursuant to Order issued in ER12-1179-016 to be effective. N/A

Filed Date: 5/24/16.

Accession Number: 20160524-5189.

Comments Due: 5 p.m. ET 6/14/16.

Docket Numbers: ER15-2237-003.

Applicants: Kanstar Transmission, LLC.

Description: Compliance filing: Compliance Filing, Kanstar Transmission, LLC to be effective 9/21/2015.

Filed Date: 5/24/16.

Accession Number: 20160524-5127.

Comments Due: 5 p.m. ET 6/14/16.

Docket Numbers: ER16-606-001.

Applicants: PacifiCorp.

Description: Compliance filing: Revisions to Market-Based Rate Tariff—EIM Compliance Filing to be effective 12/1/2015.

Filed Date: 5/23/16.

Accession Number: 20160523-5166.

Comments Due: 5 p.m. ET 6/13/16.

Docket Numbers: ER16-1509-000.

Applicants: New Wave Energy Corp.

Description: Amendment to April 27, 2016 New Wave Energy Corp tariff filing.

Filed Date: 5/23/16.

Accession Number: 20160523-5217.

Comments Due: 5 p.m. ET 6/13/16.

Docket Numbers: ER16-1765-000.

Applicants: RE Camelot LLC.

Description: Compliance filing: Comp. Filing—Amendment to MBR Tariff to Category 1 Seller to be effective 5/24/2016.

Filed Date: 5/23/16.

Accession Number: 20160523-5165.

Comments Due: 5 p.m. ET 6/13/16.

Docket Numbers: ER16-1766-000.

Applicants: Midcontinent Independent System Operator, Inc.

Description: Compliance filing: 2016-05-23 RSG Compliance Filing to be effective 4/1/2011.

Filed Date: 5/23/16.

Accession Number: 20160523-5170.

Comments Due: 5 p.m. ET 6/13/16.

Docket Numbers: ER16-1767-000.

Applicants: RE Columbia Two LLC.

Description: Compliance filing: Comp. Filing—Amendment to MBR Tariff to Category 1 Seller to be effective 5/24/2016.

Filed Date: 5/23/16.

Accession Number: 20160523-5196.

Comments Due: 5 p.m. ET 6/13/16.

Docket Numbers: ER16-1768-000.

Applicants: Alabama Power Company.

Description: Tariff Cancellation: Infigen Energy (Georgia Sun I) SGIA Termination Filing to be effective 7/24/2016.

Filed Date: 5/24/16.

Accession Number: 20160524-5098.

Comments Due: 5 p.m. ET 6/14/16.

Docket Numbers: ER16-1769-000.

Applicants: Alabama Power Company.

Description: Tariff Cancellation: Wheeler Solar (McRae Solar) SGIA Termination Filing to be effective 7/24/2016.

Filed Date: 5/24/16.

Accession Number: 20160524-5101.

Comments Due: 5 p.m. ET 6/14/16.

Docket Numbers: ER16-1770-000.

Applicants: Alabama Power Company.

Description: Tariff Cancellation: Wheeler Solar (Wheeler Solar) SGIA Termination Filing to be effective 7/24/2016.

Filed Date: 5/24/16.

Accession Number: 20160524-5102.

Comments Due: 5 p.m. ET 6/14/16.

Docket Numbers: ER16-1771-000.

Applicants: Central Hudson Gas & Electric Corporation.

Description: § 205(d) Rate Filing: Revision to FERC Rate Schedule 202 to be effective 4/27/2016.

Filed Date: 5/24/16.

Accession Number: 20160524-5108.

Comments Due: 5 p.m. ET 6/14/16.

Docket Numbers: ER16-1772-000.

Applicants: Public Service Company of Colorado.

Description: § 205(d) Rate Filing: Attachment O-SPS LP&L Filing to be effective 9/21/2016.

Filed Date: 5/24/16.

Accession Number: 20160524-5136.

Comments Due: 5 p.m. ET 6/14/16.

Docket Numbers: ER16-1773-000.

Applicants: Southern Power Company.

Description: § 205(d) Rate Filing: Butler Solar PPA Filing to be effective 7/23/2016.

Filed Date: 5/24/16.

Accession Number: 20160524-5157.

Comments Due: 5 p.m. ET 6/14/16.

Docket Numbers: ER16-1774-000.

Applicants: Southwest Power Pool, Inc.

Description: § 205(d) Rate Filing: Western Farmers Electric Cooperative Formula Rate to be effective 7/1/2016.

Filed Date: 5/24/16.

Accession Number: 20160524-5186.

Comments Due: 5 p.m. ET 6/14/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2016.
Nathaniel J. Davis, Sr.,
Deputy Secretary.

[FR Doc. 2016-12759 Filed 5-31-16; 8:45 am]

BILLING CODE 6717-01-P